COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 12/17/2012.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or email CMTEFedReg@AbilityOne.gov.

SUPPLEMENTARY INFORMATION:

Additions

On 9/14/2012 (77 FR 56813-56814) and 9/21/2012 (77 FR 58528-58529), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 USC 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 USC 8501-8506) in connection with the products and services proposed for addition to the Procurement List.

End of Certification

Accordingly, the following products and services are added to the Procurement List:

Products

NSN: 7045-00-NIB-0392—Blank media discs, DVD-R, Thermal Printable, Silver, 16x Speed, 120Min/4.7GB, 100 PK.

NPA: North Central Sight Services, Inc., Williamsport, PA.

Contracting Activity: General Services Administration, New York, NY.

Coverage: A-List for the Total Government Requirement as aggregated by the General Services Administration.

NSN: 5120-00-NIB-0029—Digger, Posthole, Industrial Grade, 48” Fiberglass Handle, Cushioned Grip.

NPA: Keystone Vocational Services, Inc., Sharon, PA.

Contracting Activity: General Services Administration, Tools Acquisitions Division I, Kansas City, MO.

Coverage: B-List for the Broad Government Requirement as aggregated by the General Services Administration.

Services

Service Type/Location: Custodial Services, Customs and Border Protection, Checkpoint 802, S-2 Hwy, MM 56.1, Ocotillo, CA.

NPA: Imperial County Work Training Center, Inc., El Centro, CA.

Contracting Activity: U.S. Customs and Border Protection, Border Enforcement Contracting Division, Washington, DC.

Service Type/Location: Custodial Service, Assistant Special Agent in Charge (ASAC), San Angelo Homeland Security Investigations, 5575 Stewart Lane,

San Angelo, TX.

NPA: Enterprise Professional Services, Inc., Austin, TX.

Contracting Activity: DEPT OF HOMELAND SECURITY, U.S. Immigration and Customs ENFORCEMENT, MISSION SUPPORT DALLAS, DALLAS, TX.

Service Type/Location: Custodial & Grounds Maintenance Service, National Oceanic and Atmospheric Administration (NOAA), Air Resources Laboratory, 456 S. Illinois Avenue, Oak Ridge, TN.

NPA: Goodwill Industries—Knoxville, Inc., Knoxville, TN.

Contracting Activity: Department of Commerce, National Oceanic and Atmospheric Administration, Kansas City, MO.

Barry S. Lineback,
Director, Business Operations.

[FR Doc. 2012-27921 Filed 11-15-12; 8:45 am]

BILLING CODE 6353-01-P